Title 3—

The President

Proclamation 7756 of February 3, 2004

National African American History Month, 2004

By the President of the United States of America

A Proclamation

During National African American History Month, we honor the heritage and accomplishments of African Americans and recognize their extraordinary contributions to the United States.

African Americans have upheld the ideals of America, defended our homeland, and enriched American culture and society. Brave leaders such as Sojourner Truth, Harriet Tubman, Booker T. Washington, Martin Luther King, Jr., and Leon Sullivan caused America to examine its heart and to respect the dignity and equality of all people, regardless of race. Today, African Americans are leaders at the highest levels of the military, business, education, law, government, the arts, sports, and religion.

To help share the stories of the millions of African Americans who have strengthened our country, I recently signed legislation establishing the National Museum of African American History and Culture as a part of the Smithsonian Institution. This museum will commemorate the triumphs of African Americans—their determination in overcoming the evil of slavery and discrimination and their many achievements and contributions to our Nation.

This year's National African American History Month celebrates the 50th anniversary of the Supreme Court's 1954 decision in Brown v. Board of Education. In that landmark decision, the Supreme Court declared an end to the shameful and unconstitutional practice of legal segregation in schools, ruling unanimously that the Constitution requires all Americans to be treated equally without regard to the color of their skin. The Brown decision transformed America and fulfilled the principles of our Constitution. This year, we remember the brave schoolchildren and parents who challenged segregation. We recognize the legal and moral advocates who paved the way for this decision, including Thurgood Marshall, the heroic lawyer who represented Linda Brown and fought for her rights and the rights of all African Americans. We remember the nine justices of the Supreme Court who helped America begin to make equal justice under law a reality for African Americans. Nearly 50 years after Brown, we are grateful for the progress America has made, but we also recognize that there is still work to be done to ensure that our country lives up to the founding principle that all of God's children are created equal.

NOW, THEREFORE, I, GEORGE W. BUSH, President of the United States of America, by virtue of the authority vested in me by the Constitution and laws of the United States, do hereby proclaim February 2004 as National African American History Month. I call upon public officials, educators, librarians, and all the people of the United States to observe this month with appropriate programs and activities that highlight and honor the contributions African Americans have made to our Nation.

IN WITNESS WHEREOF, I have hereunto set my hand this third day of February, in the year of our Lord two thousand four, and of the Independence of the United States of America the two hundred and twenty-eighth.

B

[FR Doc. 04-2790

Filed 2-5-04; 10:58 am]

Billing code 3195-01-P